DEPARTMENT OF DEFENSE

Defense Acquisition Regulations System

48 CFR Part 225

RIN 0750-AG59

Defense Federal Acquisition Regulation Supplement; Trade Agreements Thresholds (DFARS Case 2009-D040)

AGENCY: Defense Acquisition Regulations System; Department of Defense (DoD).

ACTION: Interim rule with request for comments.

SUMMARY: DoD is issuing an interim rule amending the Defense Federal Acquisition Regulation Supplement (DFARS) to incorporate increased thresholds for application of the World Trade Organization Government Procurement Agreement and the Free Trade Agreements, as determined by the United States Trade Representative.

DATES: Effective Date: June 8, 2010.

Comment Date: Comments on the interim rule should be submitted in writing to the address shown below on or before August 9, 2010 to be considered in the formulation of the final rule.

ADDRESSSES: You may submit comments, identified by DFARS Case 2009-D040, using any of the following methods:

• Federal eRulemaking Portal: http://www.regulations.gov.

Follow the instructions for submitting comments.

• E-mail: dfars@osd.mil. Include DFARS Case 2009-D040 in the subject line of the message.

• Fax: 703-602-0350.

• Mail: Defense Acquisition Regulations System, Attn: Ms. Amy Williams, OUSD (AT&L) DPAP (DARS), 3060 Defense Pentagon, Room 3B855, Washington, DC 20301-3060.

Comments received generally will be posted without change to http://www.regulations.gov, including any personal information provided.

FOR FURTHER INFORMATION CONTACT: Ms. Amy Williams, 703-602-0328.

SUPPLEMENTARY INFORMATION:

A. Background

This interim rule amends the clause prescriptions at DFARS 225.1101 and 225.7503 to reflect increased thresholds for application of the trade agreements. Every two years, the trade agreements thresholds are escalated according to a pre-determined formula set forth in the agreements. The United States Trade Representative has specified the following new thresholds (74 FR 68907, December 29, 2009):

Trade Agreement | Supply contract (equal to or exceeding) | Construction contract (equal to or exceeding)
WTO GPA | $203,000 | $7,804,000
FTAs:
Australia FTA | 70,079 | 7,804,000
Bahrain FTA | 203,000 | 9,110,318
CAFTA-DR (Costa Rica, Dominican Republic, El Salvador, Guatemala, Honduras, and Nicaragua) | 70,079 | 7,804,000
Chile FTA | 70,079 | 7,804,000
Morocco FTA | 203,000 | 7,804,000
NAFTA:
—Canada | 25,000 | 9,110,318
—Mexico | 70,079 | 9,110,318
Peru FTA | 203,000 | 7,804,000
Singapore FTA | 70,079 | 7,804,000

This rule was subject to Office of Management and Budget review under Executive Order 12866, Regulatory Planning and Review, dated September 30, 1993.

B. Regulatory Flexibility Act

DoD does not expect this interim rule to have a significant economic impact on a substantial number of small entities within the meaning of the Regulatory Flexibility Act, 5 U.S.C. 601, et seq., because the dollar threshold changes are designed to keep pace with inflation and thus maintain the status quo. Therefore, DoD has not performed an initial regulatory flexibility analysis. DoD invites comments from small business concerns and other interested parties on the expected impact of this rule on small entities.

DoD will also consider comments from small entities concerning the existing regulations in subparts affected by this rule in accordance with 5 U.S.C. 610. Interested parties must submit such comments separately and should cite 5 U.S.C. 610 (DFARS Case 2009-D040) in correspondence.

C. Paperwork Reduction Act

This interim rule affects the certification and information collection requirements in the provisions at DFARS 252.225-7020 and 252.225-7035, currently approved under Office of Management and Budget Control Number 0704-0229. However, there is no impact on the estimated burden hours. The dollar threshold changes are in line with inflation and maintain the status quo.

D. Determination To Issue an Interim Rule

A determination has been made under the authority of the Secretary of Defense, that urgent and compelling reasons exist to publish an interim rule prior to affording the public an opportunity to comment. This interim rule incorporates increased dollar thresholds for application of the World Trade Organization Government Procurement Agreement and the Free Trade Agreements, as determined by the United States Trade Representative. This action is necessary because the increased thresholds were effective January 1, 2010. Comments received in response to this interim rule will be considered in the formation of the final rule.

List of Subjects in 48 CFR Part 225

Government procurement.

Ynette R. Shelkin,
Editor, Defense Acquisition Regulations System.

Therefore, 48 CFR part 225 is amended as follows:

PART 225—FOREIGN CONTRACTING

1. The authority citation for 48 CFR part 225 continues to read as follows:

Authority: 41 U.S.C. 421 and 48 CFR chapter 1.

225.1101 [Amended]

2. Section 225.1101 is amended in paragraph (11)(i) introductory text by removing “$194,000” and adding in its place “$203,000”; and in paragraphs (11)(i)(A) and (11)(i)(B) by removing “$67,826” and adding in its place “$70,079”.

225.7503 [Amended]

3. Section 225.7503 is amended in paragraph (a) by removing “$7,443,000” and adding in its place “$7,804,000”; and in paragraph (b) by removing “$7,443,000” and adding in its place “$7,804,000”, and by removing “$8,817,449” and adding in its place “$9,110,318”.

[FR Doc. 2010-13523 Filed 6-7-10; 8:45 am]

BILLING CODE 5001-08-P